DEPARTMENT OF HOMELAND SECURITY

U.S. Customs and Border Protection

19 CFR Chapter I

Termination of Arrival Restrictions Applicable to Flights Carrying Persons Who Have Recently Traveled From or Were Otherwise Present Within the Republic of Guinea

AGENCY: U.S. Customs and Border Protection, Department of Homeland Security.

ACTION: Announcement of termination of arrival restrictions.

SUMMARY: This document announces the decision of the Secretary of Homeland Security to terminate arrival restrictions applicable to flights to the United States carrying persons who have recently traveled from, or were otherwise present within, the Republic of Guinea. These arrival restrictions were initiated due to outbreaks of Ebola virus disease (EVD) in the Democratic Republic of the Congo (DRC) and in the Republic of Guinea. These restrictions directed such flights to land only at a limited set of United States airports where the United States government had focused public health resources to implement enhanced public health measures.

DATES: The arrival restrictions applicable to flights to the United States carrying persons who have recently traveled from, or were otherwise present within, the Republic of Guinea are terminated as of 12:01 a.m. Eastern Daylight Time on May 14, 2021.

FOR FURTHER INFORMATION CONTACT: Alyce Modesto, Office of Field Operations, U.S. Customs and Border Protection at 202-286-8995.

SUPPLEMENTARY INFORMATION:

Background

On March 4, 2021, the Secretary of Homeland Security (Secretary) announced arrival restrictions applicable to flights carrying persons who have recently traveled from, or were otherwise present within, the Democratic Republic of the Congo (DRC) or the Republic of Guinea, consistent with 6 U.S.C. 112(a), 19 U.S.C. 1433(c), and 19 CFR 122.32, in a Federal Register document titled “Arrival Restrictions Applicable to Flights Carrying Persons Who Have Recently Traveled From or Were Otherwise Present Within the Democratic Republic of the Congo or the Republic of Guinea” (86 FR 12534). On May 3, 2021, the Secretary terminated the arrival restrictions applicable to flights carrying persons who have recently traveled from, or were otherwise present within, the DRC in a Federal Register document titled “Termination of Arrival Restrictions Applicable to Flights Carrying Persons Who Have Recently Traveled From or Were Otherwise Present Within the Democratic Republic of the Congo” (86 FR 23277). However, the May 3, 2021 Federal Register notification did not terminate the arrival restrictions for flights carrying persons who have recently traveled from, or were otherwise present within, the Republic of Guinea because the most recent case of EVD in the Republic of Guinea was confirmed on April 3, 2021.

For the reasons set forth below, the Secretary has decided to terminate the arrival restrictions applicable to flights carrying persons who have recently traveled from, or were otherwise present within, the Republic of Guinea. These restrictions funnel relevant arriving air passengers to one of six designated airports of entry where the United States is implementing enhanced public health measures. Since April 3, 2021, there have been no new confirmed EVD cases reported in the Republic of Guinea and all contacts of cases that were being monitored for EVD have passed the 21-day incubation period. With no new hospitalized patients with EVD and no contacts of confirmed EVD cases still requiring monitoring, the potential risk for Ebola virus exposure in the Republic of Guinea has greatly diminished. Therefore, flight restrictions are no longer required for flights carrying persons who have recently traveled from, or were otherwise present within, the Republic of Guinea.

Notice of Termination of Arrival Restrictions Applicable to All Flights Carrying Persons Who Have Recently Traveled From or Were Otherwise Present Within the Republic of Guinea

Pursuant to 6 U.S.C. 112(a), 19 U.S.C. 1433(c), and 19 CFR 122.32, and effective as of 12:01 a.m. Eastern Daylight Time on May 14, 2021, for all affected flights arriving at a United States airport, I hereby terminate the arrival restrictions applicable to flights carrying persons who have recently traveled from, or were otherwise present within, the Republic of Guinea announced in the Arrival Restrictions document published at 86 FR 12534 (March 4, 2021).

Alejandro Mayorkas,
Secretary, U.S. Department of Homeland Security.

[FR Doc. 2021-10470 Filed 5-13-21; 4:15 pm]

BILLING CODE 9111-14-P